DEPARTMENT OF TRANSPORTATION

Federal Aviation Administration

14 CFR Part 39

[Docket No. FAA-2006-24101; Directorate Identifier 2005-NM-103-AD]

RIN 2120-AA64

Airworthiness Directives; Sandel Avionics Incorporated Model ST3400 Terrain Awareness Warning System/Radio Magnetic Indicator Approved Under Technical Standard Order(s) C113, C151a, or C151b; Installed on Various Small and Transport Category Airplanes

AGENCY: Federal Aviation Administration (FAA), Department of Transportation (DOT).

ACTION: Notice of proposed rulemaking (NPRM).

SUMMARY: The FAA proposes to adopt a new airworthiness directive (AD). The new AD is for Sandel Avionics Incorporated Model ST3400 terrain awareness warning systems/radio magnetic indicator (TAWS/RMI) units as described above. This proposed AD would require installing a warning placard on the TAWS/RMI, installing upgraded software in the TAWS/RMI, revising the limitations section of the Airplane Flight Manual (AFM), and removing the placard and AFM revision after installing the software. This proposed AD results from a report that an in-flight bearing error occurred in a Model ST3400 TAWS/RMI, due to a combination of input signal fault and software error. We are proposing this AD to prevent a bearing error, which could lead to an airplane departing from its scheduled flight path, which could result in a reduction in separation from, and a possible collision with, other aircraft or terrain.

DATES: We must receive comments on this proposed AD by April 24, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Sandel Avionics Incorporated (Sandel), 2401 Dogwood Way, Vista, California 92083, for the service information identified in this proposed AD.

FOR FURTHER INFORMATION CONTACT: Ha A. Nguyen, Aerospace Engineer, Systems and Equipment Branch, ANM-130L, FAA, Los Angeles Aircraft Certification Office, 3960 Paramount Boulevard, Lakewood, California 90712-4137; telephone (562) 627-5335; fax (562) 627-5210.

SUPPLEMENTARY INFORMATION:

Comments Invited

We invite you to submit any relevant written data, views, or arguments regarding this proposed AD. Include the docket number “FAA-2006-24101; Directorate Identifier 2005-NM-103-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received a report indicating that an in-flight bearing error occurred in a Sandel Avionics Incorporated (Sandel) Model ST3400 terrain awareness warning systems/radio magnetic indicator (TAWS/RMI) installed on a Raytheon Model HS.125 series 700A airplane, due to a combination of input signal fault and software error. A similar fault could occur in any such TAWS/RMI that is configured for COMPOSITE NAV and has software installed that is at revision 3.05 or A3.05 or earlier. This condition, if not corrected, could lead to an airplane departing from its scheduled flight path, which could result in a reduction in separation from and a possible collision with other aircraft or terrain.

Relevant Service Information

We have reviewed Sandel ST3400 Service Bulletin SB3400-01, Revision B, dated September 15, 2004. The service bulletin describes procedures for installing an instructional placard on the TAWS/RMI, and updating the TAWS/RMI software to revision A3.06 or 3.07, depending upon manufacturer serial number. Accomplishing the actions specified in the service information is intended to adequately address the unsafe condition.

FAA's Determination and Requirements of the Proposed AD

We have evaluated all pertinent information and identified an unsafe condition that is likely to exist or develop on other products of this same type design. For this reason, we are proposing this AD, which would require accomplishing the actions specified in the service information described previously, except as discussed under “Differences Between the Proposed AD and Service Bulletin.”

Differences Between the Proposed AD and Service Bulletin

Although the service bulletin does not specify a revision to the airworthiness limitations section of the Airplane Flight Manual (AFM), we have determined that such a revision is needed to ensure flightcrew awareness of the TAWS/RMI status before the software upgrade has been accomplished. We have included a requirement in this proposed AD to revise the AFM. This difference has been coordinated with the manufacturer.

The service bulletin specifies installing the instructional placard within 10 flight hours after the effective date of the service bulletin. However, such a brief period could impose considerable hardship on operators. We have determined that this action can be accomplished within 14 days without undue increased risk; therefore, we have specified that compliance time in this proposed AD.

Costs of Compliance

This proposed AD would affect about 300 airplanes of U.S. registry. The proposed actions would take about 1 work hour per airplane, at an average labor rate of $65 per work hour. Based on these figures, the estimated cost of the proposed AD for U.S. operators is $19,500, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Sandel Avionics Incorporated: Docket No. FAA-2006-24101; Directorate Identifier 2005-NM-103-AD.

Comments Due Date

(a) The FAA must receive comments on this AD action by April 24, 2006.

Affected ADs

(b) None.

Applicability

(c) This AD applies to Sandel Avionics Incorporated (Sandel) Model ST3400 terrain awareness warning system/radio magnetic indicator (TAWS/RMI) units approved under Technical Standard Order(s) C113, C151a, or C151b; as identified in Sandel ST3400 Service Bulletin SB3400-01, Revision B, dated September 15, 2004; as installed on various small and transport category airplanes, certificated in any category, including, but not limited to, the airplane models listed in Table 1 of this AD.

Table 1.—Manufacturers/Airplane Models
Manufacturer | Airplane model(s)
Airbus | A300.
Aero Commander (Rockwell, Gulfstream) | 500A.
Beech (Raytheon) | 1900D.
Boeing | 727, 737, 747.
Cessna | 208, 208B, 421C; Citation 501, 525, 550, 560, 650, S550.
Challenger (Canadair; originally LearStar) | 600, 600 series, 601.
Commander (Aero Commander) | 695A.
DeHaviland (Hawker Siddeley, BAE) | DHC-6.
Embraer | 120.
Falcon (Dassault) | 10, 50, 200.
Gulfstream | G-1159A, G-I, G-III.
Israel Aircraft Industries (IAI) | 1124, 1125.
Jetstream | 31.
Lear | 24, 35, 36, 55.
McDonnell Douglas | DC-10.
Mitsubishi (Raytheon) | MU-300.
Piper (Swearingen) | Cheyenne PA31-T2.
Raytheon | Barron 58; Beechjet 400; Bonanza A36; Hawker 125-600, 125-700, 125-700A, 125-800A, 800-XP; King Air 200, 300, 350, A200, B100, B200, B300, C90, C90A, C90B, E90, E910, F90.
Sabreliner | 60.
Swearingen | SA227.

Unsafe Condition

(d) This AD results from a report that an in-flight bearing error occurred in a Model ST3400 TAWS/RMI due to a combination of input signal fault and software error. We are issuing this AD to prevent a bearing error, which could lead to an airplane departing from its scheduled flight path, which could result in a reduction in separation from, and a possible collision with, other aircraft or terrain.

Compliance

(e) You are responsible for having the actions required by this AD performed within the compliance times specified, unless the actions have already been done.

Installing Placard

(f) Within 14 days after the effective date of this AD: Install a placard on the TAWS/RMI which states, “NOT FOR PRIMARY VOR NAVIGATION,” in accordance with Sandel ST3400 Service Bulletin SB3400-01, Revision B, dated September 15, 2004.

Revising AFM

(g) Within 14 days after the effective date of this AD: Revise the limitations section of the applicable Airplane Flight Manual (AFM) to include the following statement: “Use of ST3400 TAWS/RMI for primary VOR navigation is prohibited unless the indicator has 3.07 or A3.06 software or later.” This may be done by inserting a copy of this AD into the AFM.

Updating Software

(h) Within 90 days after the effective date of this AD, in accordance with Sandel ST3400 Service Bulletin SB3400-01, Revision B, dated September 15, 2004: Field-load the TAWS/RMI with updated software having revision 3.07 (for units having serial numbers (S/Ns) under 2000) or revision A3.06 (for units having S/Ns 2000 and subsequent), as applicable. The placard and AFM limitations revision installed as required by paragraphs (f) and (g) of this AD may be removed after the software upgrade required by paragraph (h) of this AD has been accomplished.

Parts Installation

(i) As of 90 days after the effective date of this AD, no person may install, on any airplane, an ST3400 TAWS/RMI unit, unless it has been modified according to Sandel ST3400 Service Bulletin SB3400-01, Revision B, dated September 15, 2004.

Alternative Methods of Compliance (AMOCs)

(j)(1) The Manager, Los Angeles Aircraft Certification Office (ACO), FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Issued in Renton, Washington, on February 28, 2006.
Kalene C. Yanamura,
Acting Manager, Transport Airplane Directorate, Aircraft Certification Service.

[FR Doc. E6-3262 Filed 3-7-06; 8:45 am]

BILLING CODE 4910-13-P